DEPARTMENT OF HEALTH AND HUMAN SERVICES

Centers for Disease Control and Prevention

[30Day-22-22CR]

Agency Forms Undergoing Paperwork Reduction Act Review

In accordance with the Paperwork Reduction Act of 1995, the Centers for Disease Control and Prevention (CDC) has submitted the information collection request titled “Homeless Service Providers' Knowledge, Attitudes, and Practices Regarding Body Lice, Fleas and Associated Diseases” to the Office of Management and Budget (OMB) for review and approval. CDC previously published a “Proposed Data Collection Submitted for Public Comment and Recommendations” notice on February 22, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Homeless service providers knowledge, attitudes, and practices regarding body lice, fleas and associated diseases—New—National Center for Emerging and Zoonotic Infectious Diseases (NCEZID), Centers for Disease Control and Prevention (CDC).

Background and Brief Description

Several bacterial vector-borne diseases that are spread by body lice and fleas disproportionately affect persons experiencing homelessness (PEH). Given the potential severity of louse- and flea-borne diseases, as well as their disproportionate impact on PEH, understanding the knowledge, and gaps in knowledge, of urban homeless service providers will allow for targeted education and interventions to reduce the risk of louse- and flea-borne disease among this population.

This information collection aims to improve CDC's understanding of homeless service providers knowledge, attitudes, and practices regarding vector-borne diseases that can affect PEH. Insights gained from this information collection will be used to develop guidance for control of vector-borne diseases among PEH, and to improve educational outreach regarding these diseases.

Homeless service providers who work or volunteer in shelters serving PEH and homeless service providers who work on outreach teams serving unhoused persons living on the street or in encampments will serve as respondents for this study. Participating local or state public health partners will recruit up to 10 homeless service sites or outreach organizations. At each participating service site or outreach organization, 3-5 participants will be recruited to participate, with a goal of 30-50 participants recruited by each local or state public health partner. A total of 240-500 participants will complete a survey instrument. In addition, one participant from each homeless service site or outreach organization will complete a separate site assessment form regarding policies and services to better understand structural barriers to vector-borne disease prevention, diagnosis, and treatment.

CDC requests OMB approval for an estimated 320 annual burden hours. There is no cost to respondents other than their time to participate.

Estimated Annualized Burden Hours
Type of respondents | Form name | Number of respondents | Number of responses per respondent (in hours) | Average burden per response (in hours)
Homeless Service Providers—Shelter workers and volunteers | Knowledge, Attitudes, and Practices about Body Lice- and Flea-borne Diseases: Survey for Shelter Workers | 200 | 1 | 45/60
Homeless Service Providers—Street Outreach Team | Knowledge, Attitudes, and Practices about Body Lice- and Flea-borne Diseases: Survey for Street/Outreach Workers | 200 | 1 | 45/60
Supervisor—Shelter | Site Assessment Form for Homeless Service Sites | 40 | 1 | 15/60
Supervisor—Street Outreach Teams | Site Assessment Form for Street/Outreach Workers | 40 | 1 | 15/60

Jeffrey M. Zirger,
Lead, Information Collection Review Office, Office of Scientific Integrity, Office of Science, Centers for Disease Control and Prevention.

[FR Doc. 2022-19563 Filed 9-9-22; 8:45 am]

BILLING CODE 4163-18-P